DEPARTMENT OF COMMERCE

National Oceanic and Atmospheric Administration

Proposed Information Collection; Comment Request; Estuary Habitat Restoration Program Inventory [Formerly National Estuaries Restoration Inventory]

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 25, 2019.

ADDRESSES: Direct all written comments to Adrienne Thomas, PRA Officer, NOAA, 151 Patton Avenue, Room 159, Asheville, NC 28801 (or via the internet at PRAcomments@doc.gov). Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument and instructions should be directed to Julia Royster, Office of Habitat Conservation, Restoration Center, 1315 East-West Highway, Silver Spring, MD 20910, 301-427-8686, or julia.royster@noaa.gov.

SUPPLEMENTARY INFORMATION:

I. Abstract

This request is for a revision and renewal of a currently approved bi-annual information collection. The Estuary Restoration Act of 2000 established an Estuary Habitat Restoration Program that provides funding to restoration projects. Funded projects are required to complete the collection tool so project information (e.g., location, habitat type, goals, status, monitoring information) can be included in the Estuary Habitat Restoration Program database mandated by the Estuary Restoration Act of 2000. The benefit of data collection is to document the restoration actions implemented, as well as the monitoring results to understand the success of each project. Estuary habitat restoration program project information will be submitted by habitat restoration project managers and will be accessible to the public via internet. The collection method includes paper or electronic forms, not web-based data entry.

II. Method of Collection

Respondents have a choice of either electronic or paper forms. Methods of submittal include email of electronic forms, and mail and facsimile transmission of paper forms.

III. Data

OMB Control Number: 0648-0479.

Form Number(s): None.

Type of Review: Regular submission (revision and extension of a currently approved collection).

Affected Public: Non-profit institutions; State, local, or tribal government.

Estimated Number of Respondents: 20.

Estimated Time per Response: Data entry of new projects, 4 hours; updates to existing projects, 2 hours.

Estimated Total Annual Burden Hours: 100.

Estimated Total Annual Cost to Public: $100 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-20768 Filed 9-24-19; 8:45 am]

BILLING CODE 3510-22-P